DEPARTMENT OF ENERGY

Office of Energy Efficiency and Renewable Energy

Federal Energy Management Program; Standard for Premium Energy Efficient Electric Motors for Federal Acquisition

AGENCY: Office of Energy Efficiency and Renewable Energy, Department of Energy (DOE).

ACTION: Notice of final determination.

SUMMARY: The Energy Policy Act of 2005 (EPAct 2005) requires that in the case of electric motors of 1 to 500 horsepower, Federal agencies shall select and purchase only premium efficient motors that meet a specification designated by the Secretary of Energy (Secretary). DOE today designates the specifications developed by the Federal Energy Management Program (FEMP) under Executive Order 13123 as the specification for premium efficient motors for purposes of Federal purchasing. The specifications in today's final standard are identical to those in a temporary standard published for public comment on February 14, 2006. This final standard is consistent with standards recommended by the National Electrical Manufacturers Association (NEMA), the Consortium for Energy Efficiency (CEE) and other energy efficiency groups.

DATES: The effective date of this notice is August 18, 2006.

FOR FURTHER INFORMATION CONTACT: Shelley Launey, U.S. Department of Energy, Office of Energy Efficiency and Renewable Energy, Federal Energy Management Program (FEMP), EE-2L, 1000 Independence Avenue, SW., Washington, DC 20585-0121, (202) 586-1573, e-mail: Shelley Launey@ee.doe.gov, or Chris Calamita, U.S. Department of Energy, Office of General Counsel, GC-72, 1000 Independence Avenue, SW., Washington, DC 20585-0103, (202) 586-9507, e-mail: Christopher.Calamita@ hq.doe.gov.

SUPPLEMENTARY INFORMATION:

I. Background

Generally, section 104 of EPAct 2005 (Pub. L. 109-58; August 8, 2005) amends Part 3 of Title V of the National Energy Conservation Policy Act (NECPA) (codified at 42 U.S.C. 8251 et seq.) to require that Federal agencies procure only ENERGY STAR qualified products or FEMP-designated products. Section 104 also sets forth procurement requirements for specific products, including electric motors of 1 to 500 horsepower. Prior to enactment of EPAct 2005, similar provisions for energy-efficient Federal purchasing were established under Executive Order 13123, 64 FR 30849, 30851 (June 8, 1999). With respect to motors, in response to Executive Order 13123, FEMP worked with NEMA and CEE to establish efficiency criteria for low-voltage electric motors as a voluntary standard for Federal procurements.

Part of Title V of NECPA, as amended by section 104 of EPAct 2005 (42 U.S.C. 8259(b)) requires that in the case of electric motors of 1 to 500 horsepower, Federal agencies shall purchase only premium efficient motors that meet a specification ¹ designated by the Secretary no later than 120 days after the date of enactment; EPAct 2005 was enacted on August 8, 2005. DOE published a temporary standard for premium efficient motors for purposes of Federal procurement for public comment on February 14, 2006 (71 FR 7749). On February 28, 2006, the Federal Register corrected two erroneous values in Table 1 that it unintentionally included in the temporary standard notice (71 FR 10097).

¹ Although section 104 states that “agencies shall select only premium efficient motors that meet a standard designated by the Secretary,” we note that section 104 establishes a procurement standard based on efficiency specifications for electric motors.

After consultation with NEMA and representatives of energy efficiency organizations participating in the CEE Motors Committee, and after careful evaluation of the public comments, DOE today designates as a standard for premium energy efficient motors rated from 1 to 500 HP for purposes of Federal procurement, the efficiency levels as set forth in Tables 1 and 2 included in this notice.

II. Response to Comments on Temporary Standard

DOE received one written comment from the Defense Logistics Agency (DLA) in response to the February notice. The DLA requested that the motor specification apply only to commercially available motors for general applications and not to those required for special combat or defense related applications. DOE notes that the statutory definition of products subject to today's procurement requirement specifically excludes energy consuming products or systems designed or procured for combat or combat-related missions. Additionally, DOE is clarifying in Section III of this notice that the final standard is for general purpose motors, as defined by 10 CFR 431.12. DLA also suggested that DOE incorporate by reference Table 12-12 of the NEMA Standard MG-1 because it cites both nominal and minimum efficiencies. Nominal efficiency is the level to which motors are tested; it is the efficiency level which manufacturers include on the product nameplate. In actual practice, efficiencies may vary slightly from the nominal value, but they must not fall below the minimum level specified by the manufacturer.

For procurement purposes, the nominal efficiency is appropriate because this is the certified value of the motor. Also, the nominal efficiency is the specification that appears on a motor nameplate and as such, is the specification most readily available to a purchaser. Because DLA did not provide any compelling need for minimum efficiencies, and because a single nominal efficiency level will make it easier for agencies to readily identify which motors can be purchased under today's procurement standard, DOE is using nominal efficiency values identical to those in the current specification for premium electric motors contained in Table 12-12 of NEMA standard MG-1 for the final standard contained here, but is not incorporating Table 12-12.

III. Discussion of Final Standard

Today's designation is for electric motors of 1 to 500 horsepower as specified in EPAct 2005, that are not designed or procured for combat or combat-related missions. Further, the requirement established in today's document applies only to the procurement of “general-purpose” motors as defined in 10 CFR 431.12. Some applications require definite-purpose, special-purpose, special frame, or special mounted polyphase induction motors. However, such motors are not general purpose motors as defined in 10 CFR 431.12. Special purpose motors are therefore not subject to the procurement requirement in this document. Even so, special purpose motors meeting the efficiency levels of this specification are often available and are recommended.

DOE has worked in conjunction with NEMA and CEE to ensure that purchasers will not be confused by multiple efficiency specifications. The efficiency levels in Tables 1 and 2 are identical to the NEMA Premium ™ and CEE Premium Efficiency Motors efficiency criteria. Tables 1 and 2 can also be found on the DOE FEMP procurement Web site at http://www.eere.energy.gov/femp/procurement/eep_emotors.cfm, and the NEMA Web site at http://www.nema.org/gov/energy/efficiency/premium/. Motor efficiency is identified on the nameplate by “nominal” efficiency, which represents the average efficiency of a large population of motors of the same design. It is certified in accordance with NEMA MG 1-1998, “Motors and Generators,” and IEEE 112 Test Method B.

By using common specifications for premium energy efficient motors, NEMA, CEE, and DOE have helped focus market demand by Federal buyers and utility company customers on a single standard for energy efficiency, thus providing a clear market signal in support of energy efficiency to manufacturers, suppliers, specifiers, and installers of electric motors.

FEMP will periodically review the DOE's motor efficiency standard and revise it as necessary, in consultation with industry and energy efficiency organizations, to reflect technology advances and/or changing market conditions.

Issued in Washington, DC, on August 8, 2006.
Alexander A. Karsner,
Assistant Secretary, Energy Efficiency and Renewable Energy.

Table 1.—Nominal Efficiencies for Induction Motors Rated 600 Volts or Less
[Random wound]
Open drip-proof: HP | Open drip-proof: 6-pole | Open drip-proof: 4-pole | Open drip-proof: 2-pole | Totally enclosed fan-cooled: 6-pole | Totally enclosed fan-cooled: 4-pole | Totally enclosed fan-cooled: 2-pole
1 | 82.5 | 85.5 | *77.0 | 82.5 | 85.5 | 77.0
1.5 | 86.5 | 86.5 | 84.0 | 87.5 | 86.5 | 84.0
2 | 87.5 | 86.5 | 85.5 | 88.5 | 86.5 | 85.5
3 | 88.5 | 89.5 | 85.5 | 89.5 | 89.5 | 86.5
5 | 89.5 | 89.5 | 86.5 | 89.5 | 89.5 | 88.5
7.5 | 90.2 | 91.0 | 88.5 | 91.0 | 91.7 | 89.5
10 | 91.7 | 91.7 | 89.5 | 91.0 | 91.7 | 90.2
15 | 91.7 | 93.0 | 90.2 | 91.7 | 92.4 | 91.0
20 | 92.4 | 93.0 | 91.0 | 91.7 | 93.0 | 91.0
25 | 93.0 | 93.6 | 91.7 | 93.0 | 93.6 | 91.7
30 | 93.6 | 94.1 | 91.7 | 93.0 | 93.6 | 91.7
40 | 94.1 | 94.1 | 92.4 | 94.1 | 94.1 | 92.4
50 | 94.1 | 94.5 | 93.0 | 94.1 | 94.5 | 93.0
60 | 94.5 | 95.0 | 93.6 | 94.5 | 95.0 | 93.6
75 | 94.5 | 95.0 | 93.6 | 94.5 | 95.4 | 93.6
100 | 95.0 | 95.4 | 93.6 | 95.0 | 95.4 | 94.1
125 | 95.0 | 95.4 | 94.1 | 95.0 | 95.4 | 95.0
150 | 95.4 | 95.8 | 94.1 | 95.8 | 95.8 | 95.0
200 | 95.4 | 95.8 | 95.0 | 95.8 | 96.2 | 95.4
250 | 95.4 | 95.8 | 95.0 | 95.8 | 96.2 | 95.8
300 | 95.4 | 95.8 | 95.4 | 95.8 | 96.2 | 95.8
350 | 95.4 | 95.8 | 95.4 | 95.8 | 96.2 | 95.8
400 | 95.8 | 95.8 | 95.8 | 95.8 | 96.2 | 95.8
450 | 96.2 | 96.2 | 95.8 | 95.8 | 96.2 | 95.8
500 | 96.2 | 96.2 | 95.8 | 95.8 | 96.2 | 95.8

Table 2.—Nominal Efficiencies For Induction Motors Rated 5 kV or Less
[Form wound]
Open drip-proof: HP | Open drip-proof: 6-pole | Open drip-proof: 4-pole | Open drip-proof: 2-pole | Totally enclosed fan-cooled: 6-pole | Totally enclosed fan-cooled: 4-pole | Totally enclosed fan-cooled: 2-pole
250 | 95.0 | 95.0 | 94.5 | 95.0 | 95.0 | 95.0
300 | 95.0 | 95.0 | 94.5 | 95.0 | 95.0 | 95.0
350 | 95.0 | 95.0 | 94.5 | 95.0 | 95.0 | 95.0
400 | 95.0 | 95.0 | 94.5 | 95.0 | 95.0 | 95.0
450 | 95.0 | 95.0 | 94.5 | 95.0 | 95.0 | 95.0
500 | 95.0 | 95.0 | 94.5 | 95.0 | 95.0 | 95.0

[FR Doc. E6-13691 Filed 8-17-06; 8:45 am]

BILLING CODE 6450-01-P